DEPARTMENT OF THE INTERIOR

Office of the Secretary

43 CFR Part 35

RIN 1090-AA80

Change of Address for Office of Hearings and Appeals; Correction

AGENCY: Office of the Secretary, Interior.

ACTION: Final rule; correction.

SUMMARY: In the January 30, 2002, Federal Register, the Department of the Interior published a revision to its regulations governing administrative appeals to reflect a change of address for the Office of Hearings and Appeals (OHA). One of the sections for revision was erroneously cited. This document corrects that citation.

DATES: Effective on March 20, 2002.

FOR FURTHER INFORMATION CONTACT: Charles E. Breece, Principal Deputy Director, Office of Hearings and Appeals, 801 North Quincy Street, Arlington, Virginia 22203, telephone 702-235-3810.

SUPPLEMENTARY INFORMATION: The Department of the Interior published a final rule in the Federal Register of January 30, 2002, revising several parts of 43 CFR to reflect a change of address for OHA. 67 FR 4367. One of the sections for revision was erroneously cited as 43 CFR 35.1(g). There is no paragraph (g) in § 35.1. The correct citation is 43 CFR 35.2(g).

In rule FR Doc. 02-2188 published on January 30, 2002 (67 FR 4367), make the following correction: On page 4369, in the first column, change the section heading and instruction 25 to read as follows:

§ 35.2 [Amended]

25. In § 35.2(g), revise “4015 Wilson Boulevard” to read “801 North Quincy Street”.

Dated: March 11, 2002.
P. Lynn Scarlett,
Assistant Secretary—Policy, Management and Budget.

[FR Doc. 02-6658 Filed 3-19-02; 8:45 am]

BILLING CODE 4310-RK-M